DEPARTMENT OF JUSTICE

Notice of Lodging Proposed Consent Decree

In accordance with Departmental Policy, 28 CFR 50.7, notice is hereby given that a proposed Consent Decree in United States v. Nelson Farms, Inc., et al., Civil Action No. 2:16-cv-00319, was lodged with the United States District Court for the District of Vermont on December 4, 2019.

This proposed Consent Decree concerns a complaint filed by the United States against Nelson Farms, Inc. and Douglas Nelson, Sr., pursuant to Sections 301, 309, and 404 of the Clean Water Act (“CWA”), 33 U.S.C. 1311, 1319, and 1344, to obtain injunctive relief from and impose civil penalties against the Defendants for violating the Clean Water Act by discharging pollutants without a permit into waters of the United States. The proposed Consent Decree resolves these allegations by requiring the Defendants to restore the impacted areas and/or perform mitigation and to pay a civil penalty.

The Department of Justice will accept written comments relating to this proposed Consent Decree for thirty (30) days from the date of publication of this Notice. Please address comments to Perry Rosen, Senior Attorney, United States Department of Justice, Environment and Natural Resources Division, Environmental Defense Section, Post Office Box 7611, Washington, DC 20044-7611, and refer to United States v. Nelson Farms, Inc., et al., DJ # 90-5-1-1-19989.

The proposed Consent Decree may be examined at the Clerk's Office, United States District Court for the District of Vermont, 11 Elmwood Avenue, Room 240, Burlington, VT 05041. In addition, the proposed Consent Decree may be examined electronically at http://www.justice.gov/enrd/consent-decrees.

Cherie Rogers,
Assistant Section Chief, Environmental Defense Section, Environment and Natural Resources Division.

[FR Doc. 2019-26490 Filed 12-9-19; 8:45 am]

BILLING CODE 4410-15-P